DEPARTMENT OF THE INTERIOR

Bureau of Indian Affairs

Submission of Information Collection to the Office of Management Budget for Review Under the Paperwork Reduction Act

AGENCY: Bureau of Indian Affairs, Interior.

ACTION: Notice of renewal of a current approved information collection.

SUMMARY: In compliance with the Paperwork Reduction Act of 1995, this notice announces that the Bureau of Indian Affairs is submitting an information collection request to the Office of Management and Budget for clearance and extension. The information collection request for the Indian Child Welfare Act Annual Report is cleared under OMB Control Number 1076-0131 through December 31, 2001.

DATES: Submit comments on or before January 22, 2002.

ADDRESSES: Written comments should be sent directly to the Office of Management and Budget, Office of Information and Regulatory Affairs, Attention: Desk Officer for the Department of Interior, Room 10102, 725 17th Street NW, Washington, DC 20503.

Send a copy of your comments to Larry Blair, Bureau of Indian Affairs, Branch of Tribal Government, Division of Social Services, 1849 C Street NW (MS-4660-MIB), Washington, DC 20240.

FOR FURTHER INFORMATION CONTACT: Interested persons may obtain copies of the information collection requests without charge by contacting Mr. Larry Blair, (202) 208-2479 (this is not a toll free number). Facsimile number (202) 208-2648.

SUPPLEMENTARY INFORMATION:

I. Abstract

The Department has issued regulations prescribing procedures by which an Indian tribe may receive funding to provide ICWA services. Funding is authorized by the Indian Child Welfare Act, Public Law 95-608, 92 Stat. 3069, 25 U.S.C. 1918.

A Federal Register notice soliciting comments from interested parties to renew this information collection was published on October 2, 2001 (66 FR 50201). No comments were received. Upon review of ICWA program information previously collected, we realized that a change was needed to more accurately reflect the public burden. Therefore, we are submitting this information collection for revision and renewal. An agency may not conduct or sponsor, and a person is not required to respond to a collection of information unless it displays a currently valid OMB control number.

II. Request for Comments

The Department invites comments on:

(1) Whether the collection of information is necessary for the proper performance of the functions of the Bureau, including whether the information will have practical utility;

(2) The accuracy of the Bureau's estimate of the burden of the information collection, including the validity of the methodology and assumptions used;

(3) Ways to enhance the quality, utility, and clarity of the information to be collected; and,

(4) Ways to minimize the burden of the information collection on those who are to respond, including through the use of appropriate automated electronic, mechanical, or other collection techniques or forms of information technology.

III. Data

Title of the Information Collection: ICWA of 1978.

OMB: 1076-0131; Expiration date: December 31, 2001.

Type of Review: Revision and renewal of a current approved information collection.

Summary of Collection of Information: The collection of information will ensure that the provisions of Public Law 95-608 are met.

Affected Entities: Federally recognized tribes who receive grant funding to provide ICWA services.

Frequency of Response: Quarterly.

Estimated Number of Annual Responses: One annual and four quarterly reports (the fourth quarter report is also the annual report).

Estimated Time Per Response: One-half hour for each of 4 reports from 536 grantees.

Estimated Total Annual Burden Hours: 1,072 hours.

This notice is published in accordance with the authority delegated by the Secretary of the Interior to the Assistant Secretary—Indian Affairs by 209 Departmental Manual 8.1.

Dated: December 11, 2001.
Neal A. McCaleb,
Assistant Secretary—Indian Affairs.

[FR Doc. 01-31336 Filed 12-19-01; 8:45 am]

BILLING CODE 4310-02-P